DEPARTMENT OF LABOR

Employment and Training Administration

[TA-W-57,030]

Dorby Frocks, New York, NY; Notice of Termination of Investigation

Pursuant to section 221 of the Trade Act of 1974, an investigation was initiated on April 22, 2005 in response to a petition filed by New York, New York, DOL Workforce Development and Training Division on behalf of workers at Dorby Frock, New York, New York.

The Department issued negative determinations (TA-W-56,599, 56,240 and 55,863) applicable to the petitioning group of workers on March 29, 2005, January 21, 2005 and November 18, 2004, respectively. No new information or change in circumstances is evident which would result in a reversal of the Department's previous determinations. Consequently, the investigation has been terminated.

Signed in Washington, DC, this 20th day of May 2005.
Elliott S. Kushner,
Certifying Officer, Division of Trade Adjustment Assistance.

[FR Doc. E5-2950 Filed 6-8-05; 8:45 am]

BILLING CODE 4510-30-P